DEPARTMENT OF COMMERCE

Foreign-Trade Zones Board

[B-43-2017]

Foreign-Trade Zone 57—Mecklenburg County, North Carolina; Application for Production Authority; Gildan Yarns, LLC (Cotton and Cotton/Polyester Yarns); Salisbury, North Carolina

An application has been submitted to the Foreign-Trade Zones (FTZ) Board by the Charlotte Regional Partnership, Inc., grantee of FTZ 57, requesting export-only production authority on behalf of Gildan Yarns, LLC (Gildan), located in Salisbury, North Carolina. The application conforming to the requirements of the regulations of the FTZ Board (15 CFR 400.23) was docketed on June 16, 2017.

The Gildan facility (400 employees, 104 acres) is located within Site 19 of FTZ 57. The facility is used to produce spun cotton and cotton/polyester yarns for export. Production under FTZ procedures could exempt Gildan from customs duty payments on the foreign component used in export production. The sole foreign-origin material (representing 10% of the value of the finished product) to be used in the export production is polyester staple fiber (duty rate 4.3%). Customs duties also could possibly be deferred or reduced on foreign-status production equipment. The request indicates that the savings from FTZ procedures would help improve the plant's international competitiveness.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is August 22, 2017. Rebuttal comments in response to material submitted during the foregoing period may be submitted during the subsequent 15-day period to September 6, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: June 19, 2017.
Andrew McGilvray,
Executive Secretary.

[FR Doc. 2017-13135 Filed 6-22-17; 8:45 am]

BILLING CODE 3510-DS-P